DEPARTMENT OF TRANSPORTATION

Federal Aviation Administration

14 CFR Part 39

[Docket No. FAA-2009-0948; Directorate Identifier 2009-NE-30-AD]

RIN 2120-AA64

Airworthiness Directives; Thielert Aircraft Engines GmbH (TAE) Models TAE 125-02-99 and TAE 125-01 Reciprocating Engines

AGENCY: Federal Aviation Administration (FAA), DOT.

ACTION: Notice of proposed rulemaking (NPRM).

SUMMARY: We propose to revise an existing airworthiness directive (AD) for the products listed above. This proposed AD results from mandatory continuing airworthiness information (MCAI) issued by an aviation authority of another country to identify and correct an unsafe condition on an aviation product and from a comment received from the European Aviation Safety Agency (EASA) on AD 2010-06-12, (75 FR 12439, March 16, 2010). The MCAI describes the unsafe condition as:

As a consequence of occurrences and service experience, Thielert Aircraft Engines GmbH has introduced a new rail pressure control valve part number (P/N) 05-7320-E000702 and has amended the Airworthiness Limitation Section (ALS) of the Operation & Maintenance Manual OM-02-02 to include a replacement of the rail pressure control valve. Failure of this part could result in in-flight shutdowns of the engine(s).

TAE has also amended the ALS of the Operation & Maintenance Manual OM-02-01 to include a replacement of the rail pressure valve. We are proposing this AD to prevent engine in-flight shutdown, possibly resulting in reduced control of the aircraft.

DATES: We must receive comments on this proposed AD by November 17, 2011.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Thielert Aircraft Engines GmbH, Platanenstrasse 14 D-09350, Lichtenstein, Germany, phone: +49-37204-696-0; fax: +49-37204-696-55; e-mail: info@centurion-engines.com for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone: 800-647-5527) is the same as the Mail address provided in the ADDRESSES section. Comments will be available in the AD docket shortly after receipt.

FOR FURTHER INFORMATION CONTACT: Alan Strom, Aerospace Engineer, Engine Certification Office, FAA, Engine and Propeller Directorate, 12 New England Executive Park, Burlington, MA 01803; phone: 781-238-7143; fax: 781-238-7199; e-mail: alan.strom@faa.gov.

SUPPLEMENTARY INFORMATION:

Comments Invited

We invite you to send any written relevant data, views, or arguments about this proposed AD. Send your comments to an address listed under the ADDRESSES section. Include “Docket No. FAA-2009-0948; Directorate Identifier 2009-NE-30-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

On March 8, 2010, the FAA issued AD 2010-06-12, (75 FR 12439, March 16, 2010). That AD requires initial and repetitive replacements of the rail pressure control valve.

Actions Since AD 2010-06-12 Was Issued

Since we issued AD 2010-06-12, (75 FR 12439, March 16, 2010), EASA, which is the Technical Agent for the Member States of the European Community, informed us that our AD is more restrictive than their EASA AD 2008-0128, dated July 9, 2009. Specifically, our paragraph (e)(3), which currently states:

“For TAE 125-01 reciprocating engines, within 100 flight hours after the effective date of this AD, replace the existing rail pressure control valve with a rail pressure control valve, P/N 02-7320-04100R3” should state:

“For TAE 125-01 reciprocating engines, before 600 flight hours time-since-new, or within 100 flight hours after the effective date of this AD, whichever occurs later, replace the existing rail pressure control valve with a rail pressure control valve, P/N 02-7320-04100R3.”

We agree. We made the suggested change in this proposed AD. We also deleted the AD Differences paragraph (f)(2), which stated: “For the TAE 125-01 reciprocating engines, we changed initial compliance time from within the next 3 months to within 100 flight hours after the effective date of this AD.” The remainder of this proposed AD is unchanged.

FAA's Determination and Requirements of This Proposed AD

This product has been approved by the aviation authority of Germany and is approved for operation in the United States. Pursuant to our bilateral agreement with the European Community, EASA has notified us of the unsafe condition described in the MCAI. We are proposing this AD because we evaluated all information provided by EASA and determined the unsafe condition exists and is likely to exist or develop on other products of the same type design. This proposed AD would require initial and repetitive replacements of the rail pressure control valve.

Differences Between This Proposed AD and the MCAIs or Service Information

We have reviewed the MCAIs and related service information and, in general, agree with their substance. But we have found it necessary to reduce the initial compliance time for TAE 125-02-99 engines from within 110 flight hours to within 100 flight hours. We also have found it necessary to specify the repetitive replacement compliance time for the rail pressure control valve of within every 600 flight hours for both models of engines. The MCAIs instruct the operators to follow Thielert Maintenance Manual, Chapter 5, Airworthiness Limitations, for the repetitive compliance time, which requires replacement of the rail pressure control valve within every 600 flight hours. In making these changes, we do not intend to differ substantively from the information provided in the MCAI and related service information.

Costs of Compliance

Based on the service information, we estimate that this proposed AD would affect about 370 TAE 125-01 and TAE 125-02-99 reciprocating engines installed on products of U.S. registry. We also estimate that it would take about 1.5 work-hours per engine to comply with this proposed AD. The average labor rate is $85 per work-hour. Required parts would cost about $500 per engine. Based on these figures, we estimate the cost of the proposed AD for initial replacement, on U.S. operators to be $232,175.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16236, and adding the following new AD:

Thielert Aircraft Engines GmbH: Docket No. FAA-2009-0948; Directorate Identifier 2009-NE-30-AD.

Comments Due Date

(a) We must receive comments by November 17, 2011.

Affected Airworthiness Directives (ADs)

(b) This AD revises AD 2010-06-12, Amendment 39-16236.

Applicability

(c) This AD applies to Thielert Aircraft Engines GmbH (TAE) models TAE 125-01 and TAE 125-02-99 reciprocating engines installed in, but not limited to, Cessna 172 and (Reims-built) F172 series (European Aviation Safety Agency (EASA) Supplemental Type Certificate (STC) No. EASA.A.S.01527); Piper PA-28 series (EASA STC No. EASA.A.S. 01632); APEX (Robin) DR 400 series (EASA STC No. A.S.01380); and Diamond Aircraft Industries Models DA40 and DA42 airplanes.

Reason

(d) As a consequence of occurrences and service experience, Thielert Aircraft Engines GmbH has introduced a new rail pressure control valve part number (P/N) 05-7320-E000702 and has amended the Airworthiness Limitation Section (ALS) of the Operation & Maintenance Manual OM-02-02 to include a replacement of the rail pressure control valve. Failure of this part could result in in-flight shutdowns of the engine(s).

TAE has also amended the ALS of the Operation & Maintenance Manual OM-02-01 to include a replacement of the rail pressure valve. This AD results from mandatory continuing airworthiness information (MCAIs) issued by an aviation authority of another country to identify and correct an unsafe condition on an aviation product and from a comment received from EASA on AD 2010-06-12. We are issuing this AD to prevent engine in-flight shutdown, possibly resulting in reduced control of the aircraft.

Actions and Compliance

(e) Unless already done, do the following actions.

TAE 125-02-99 Reciprocating Engines

(1) For TAE 125-02-99 reciprocating engines, within 100 flight hours after the effective date of this AD, replace the existing rail pressure control valve with a rail pressure control valve P/N 05-7320-E000702, and modify the Vrail plug to make it compatible with the replacement rail pressure control valve.

(2) Guidance on the valve replacement and rail modification specified in paragraph (e)(1) of this AD can be found in Thielert Repair Manual RM-02-02, Chapter 73-10.08, and Chapter 39-40.08, respectively.

TAE 125-01 Reciprocating Engines

(3) For TAE 125-01 reciprocating engines, before 600 flight hours time-since-new, or within 100 flight hours after the effective date of this AD, whichever occurs later, replace the existing rail pressure control valve with a rail pressure control valve, P/N 02-7320-04100R3.

(4) Guidance on the valve replacement specified in paragraph (e)(3) of this AD can be found in Thielert Repair Manual RM-02-01, Chapter 29.0.

TAE 125-02-99 and TAE 125-01 Engines, Repetitive Replacements of Rail Pressure Control Valves

(5) Thereafter, for affected TAE 125-02-99 and TAE 125-01 engines, replace the rail pressure control valve with the same P/N valve within every 600 flight hours.

FAA AD Differences

(f) This AD differs from the Mandatory Continuing Airworthiness Information (MCAI) and/or service information as follows:

(1) For the TAE 125-02-99 reciprocating engines, we reduced the initial compliance time from within 110 flight hours to within 100 flight hours after the effective date of this AD.

(2) The MCAIs instruct the operators to follow Thielert Maintenance Manual, Chapter 5, Airworthiness Limitations, for the repetitive compliance time for the rail pressure control valve, which, in the manual, is 600 flight hours. We found it necessary to specify the repetitive replacement compliance time in this AD, to within every 600 flight hours.

Alternative Methods of Compliance (AMOCs)

(g) The Manager, Engine Certification Office, FAA, has the authority to approve AMOCs for this AD, if requested using the procedures found in 14 CFR 39.19.

Related Information

(h) Refer to MCAI EASA AD 2008-0128, dated July 9, 2008, EASA AD 2008-0215, dated December 5, 2008, Thielert Service Bulletin No. TAE 125-1008 P1, Revision 1, dated September 29, 2008, and Thielert Repair Manual RM-02-02, for related information. Contact Thielert Aircraft Engines GmbH, Platanenstrasse 14 D-09350, Lichtenstein, Germany, telephone: +49-37204-696-0; fax: +49-37204-696-55; e-mail: info@centurion-engines.com, for a copy of this service information.

(i) Contact Alan Strom, Aerospace Engineer, Engine Certification Office, FAA, Engine and Propeller Directorate, 12 New England Executive Park, Burlington, MA 01803; telephone 781-238-7143; fax 781-238-7199; e-mail: alan.strom@faa.gov, for more information about this AD.

Issued in Burlington, Massachusetts, on October 6, 2011.
Peter A. White,
Manager, Engine and Propeller Directorate, Aircraft Certification Service.

[FR Doc. 2011-26822 Filed 10-17-11; 8:45 am]

BILLING CODE 4910-13-P